DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Evaluating the Knowledge and Educational Needs of Students of Health Professions on Patient-Centered Outcomes Research.” In accordance with the Paperwork Reduction Act, 44 U.S.C. 3501-3521, AHRQ invites the public to comment on this proposed information collection.

DATES: Comments on this notice must be received by March 29, 2013.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Evaluating the Knowledge and Educational Needs of Students of Health Professions on Patient-Centered Outcomes Research

AHRQ's Effective Health Care Program, which was authorized by Section 1013 of the Medicare Prescription Drug, Improvement and Modernization Act of 2003, 42 U.S.C. 299b-7, is the Federal Government's first program to conduct patient-centered outcomes research (PCOR) and share the findings with the public. PCOR is research that assesses the benefits and harms of preventive, diagnostic, therapeutic, palliative or health delivery system interventions. This research helps clinicians, patients and other caregivers make decisions about health care choices by highlighting comparisons and outcomes that matter to people, such as survival, function, symptoms, and health related quality of life. The Program funds individual researchers, research centers, and academic organizations to work together with the Agency to produce effectiveness and comparative effectiveness research.

The Effective Health Care Program also translates research findings into a variety of products for diverse stakeholders. These products include summary guides for clinicians, patients/consumers, and policy-makers, continuing education modules and faculty slide sets for clinicians, patient decision aids, and audio and video podcasts.

Most of the PCOR materials and translation products that are currently available are designed to help practicing clinicians, consumers/patients, and policymakers in making important decisions about health care. AHRQ recognizes the importance of insuring that clinicians in training are also exposed to PCOR and that they fully understand their role and value in shared clinical decision making. AHRQ and the Effective Health Care Program have started developing some tools, such as faculty slide sets based on comparative effectiveness reviews of the literature, to reach this audience through traditional clinical curricula. However, exposure to PCOR may occur and even be more effective in more non-traditional extracurricular settings, such as special interest projects created and sponsored by student groups or even Web-based events involving social media.

This evaluation study addresses AHRQ's need for a report to inform strategic planning for dissemination and educational activities targeted to clinicians in training. The evaluation is intended to assess students' and faculties' needs and preferences for integrating PCOR into the health professions' curricula, learning environment, and other training opportunities through a series of structured interviews with selected faculty members and an online survey directed at students in the health professions. The outcome will be a roadmap, which will include a set of recommendations for strategies and tools for educational and dissemination activities, along with a suggested approach and timeline for implementation of the recommendations. The recommendations will inform AHRQ's strategic plan for future efforts which will engage and develop information and materials for the health professions student audience.

The goals of this project are to:

(1) Understand the extent to which PCOR is currently integrated into the curriculum and how it is disseminated to students in the health professions.

(2) Understand health professions students' attitudes toward and knowledge of PCOR.

(3) Explore differences in health professions student experiences with PCOR by health profession.

(4) Identify informational and training needs and preferences of health professions students in primary care-oriented training programs.

This study is being conducted by AHRQ through its contractor, James Bell Associates, pursuant to (1) 42 U.S.C. 299b-7, (2) AHRQ's authority to conduct and support research on healthcare and on systems for the delivery of such care, including activities with respect to the quality, effectiveness, efficiency, appropriateness and value of healthcare services, 42 U.S.C. 299a(a)(1), and (3) AHRQ's authority to support the synthesis and dissemination of available scientific evidence for use by patients, consumers, practitioners, providers, purchasers, policy makers, and educators, 42 U.S.C. 299(b)(2).

Method of Collection

To achieve these goals the following data collections will be implemented:

(1) Student Survey. The purpose of the survey is to assess health professions students' attitudes toward and knowledge of PCOR, the extent to which they value PCOR, what they would like to know, and how they would prefer to receive this information now and as they move into clinical practice.

(2) Faculty Interview. The faculty interview will focus on gaining an understanding of where PCOR fits into the current curriculum for each health professions field; how both the philosophy and substantive findings of PCOR information are disseminated to instructors and subsequently to students; and perceived gaps and suggested strategies for filling these gaps.

Data will be gathered through structured interviews of faculty in health professions programs and a broad web-based survey of a cross-section of health professions students. The outcome from the project will be used immediately and directly by AHRQ's Office of Communications and Knowledge Transfer (OCKT) staff to guide strategic planning for addressing the educational needs of health professions students. Subsequent activities may include, but are not limited to, modifying specific information about PCOR and developing novel approaches to providing information on PCOR as determined by the student survey responses. This information will also help guide the determination of the AHRQ OCKT resource needs.

Estimated Annual Respondent Burden

Exhibit 1 shows the estimated annualized burden hours for the respondents' time to participate in this research. Faculty interviews will be conducted with 24 faculty members and will last about one hour. The student survey will include 1,800 students and takes 10 minutes to complete. The total burden is estimated to be 324 hours annually.

Exhibit 2 shows the estimated annualized cost burden associated with the respondents' time to participate in this research. The total cost burden is estimated to be $4,790 annually.

Exhibit 1—Estimated Annualized Burden Hours
Form name | Number of respondents | Number of responses per respondent | Hours per response | Total
Faculty Interview | 24 | 1 | 1 | 24
Student Survey | 1,800 | 1 | 10/60 | 300
Total | 1,824 | Na | Na | 324

Exhibit 2—Estimated Annualized Cost Burden
Form name | Number of respondents | Total burden hours | Average hourly wage rate * | Total cost burden
Faculty Interview | 24 | 24 | $47.70 | $1,145
Student Survey | 1,800 | 300 | 12.15 | 3,645
Total | 1,824 | 324 | Na | 4,790
* Based on the mean wages for Health Specialties Teachers, Postsecondary (25-1071; 47.70/hour) and Teacher Assistants (25-9041; $12.15/hour. Many of the students will be teaching and research assistants, making this the best occupational code for them), National Compensation Survey: Occupational wages in the United States May 2011, “U.S. Department of Labor, Bureau of Labor Statistics.” http://www.bls.gov/oes/current/oes_nat.htm#25-0000.

Estimated Annual Costs to the Federal Government

Exhibit 3 shows the total and annualized cost to the Federal Government for conducting this research. The total cost to the Federal Government is $683,335. The total annualized cost is estimated to be approximately $341,667. The total annual costs include the questionnaire development, administration, analysis, and study management.

Exhibit 3—Estimated Total and Annualized Cost
Cost component | Total cost | Annualized cost
Project Development | $144,707 | $72,353
Data Collection Activities | 283,667 | 141,833
Data Processing and Analysis | 135,523 | 67,762
Publication of Results | 9,012 | 4,506
Project Management | 65,722 | 32,861
Overhead | 44,704 | 22,352
Total | 683,335 | 341,667

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: January 16, 2013.
Carolyn M. Clancy,
Director.

[FR Doc. 2013-01342 Filed 1-25-13; 8:45 am]

BILLING CODE 4160-90-M